DEPARTMENT OF LABOR

Employment and Training Administration

[TA-W-74,593]

Whirlpool Corporation Including On-Site Leased Workers From Career Solutions TEC Staffing, Andrews International, IBM Corporation, TEK Systems, Penske Logistics, Eurest, and Canteen, Fort Smith, AR; Amended Certification Regarding Eligibility To Apply for Worker Adjustment Assistance

In accordance with Section 223 of the Trade Act of 1974, as amended (“Act”), 19 U.S.C. 2273, the Department of Labor issued a Certification of Eligibility to Apply for Worker Adjustment Assistance on October 6, 2010, applicable to workers of Whirlpool Corporation, including on-site leased workers from Career Solutions TEC Staffing, Fort Smith, Arkansas. The workers are engaged in the production of refrigerators and trash compactors. The notice was published in the Federal Register on October 25, 2010 (75 FR 65520). The notice was amended on December 6, 2010 to include on-site leased workers from Andrews International. The notice was published in the Federal Register on December 13, 2010 (75 FR 77665).

At the request of a company official, the Department reviewed the certification for workers of the subject firm. The company reports that workers leased from IBM Corporation, TEK Systems, Penske Logistics, Eurest, and Canteen were employed on-site at the Fort Smith, Arkansas location of Whirlpool Corporation. The Department has determined that these workers were sufficiently under the control of Whirlpool Corporation to be considered leased workers.

Based on these findings, the Department is amending this certification to include workers leased from IBM Corporation, TEK Systems, Penske Logistics, Eurest, and Canteen working on-site at the Fort Smith, Arkansas location of Whirlpool Corporation.

The amended notice applicable to TA-W-74,593 is hereby issued as follows:

All workers of Whirlpool Corporation, including on-site leased workers from Career Solutions TEC Staffing, Andrews International, IBM Corporation, TEK Systems, Penske Logistics, Eurest, and Canteen, Fort Smith, Arkansas, who became totally or partially separated from employment on or after October 2, 2010, through October 6, 2012, and all workers in the group threatened with total or partial separation from employment on the date of certification through two years from the date of certification, are eligible to apply for adjustment assistance under Chapter 2 of Title II of the Trade Act of 1974, as amended.

Signed at Washington, DC, this 7th day of November 2011.
Michael W. Jaffe,
Certifying Officer, Office of Trade Adjustment Assistance.

[FR Doc. 2011-30380 Filed 11-25-11; 8:45 am]

BILLING CODE 4510-FN-P